DEPARTMENT OF HOMELAND SECURITY

Transportation Security Administration

Extension of Agency Information Collection Activity Under OMB Review: TSA InfoBoards

AGENCY: Transportation Security Administration, DHS.

ACTION: 30-Day notice.

SUMMARY: This notice announces that the Transportation Security Administration (TSA) has forwarded the Information Collection Request (ICR), Office of Management and Budget (OMB) control number 1652-0065, abstracted below to OMB for review and approval of an extension of the currently approved collection under the Paperwork Reduction Act (PRA). The ICR describes the nature of the information collection and its expected burden. TSA infoBoards are an information-sharing environment designed to serve stakeholders in the transportation security community and are used to disseminate mission-critical information. Utilizing and inputting information into TSA infoBoards is completely voluntary.

DATES: Send your comments by January 6, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on September 24, 2024, 89 FR 77882. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA infoBoards.

Type of Request: Extension of a collection.

OMB Control Number: 1652-0065.

Form(s): TSA Forms 1427 and 1430.

Affected Public: Individuals with transportation security responsibilities, such as aircraft operators, airport security coordinators, and international transportation security coordinators.

Abstract: TSA's infoBoards were developed by TSA as part of the agency's broad responsibilities and authorities under the Aviation and Transportation Security Act, and delegated authority from the Secretary of Homeland Security, for “security in all modes of transportation . . . including security responsibilities . . . over modes of transportation that are exercised by the Department of Transportation.” ¹ TSA infoBoards are designed to serve stakeholders in the transportation security community and are used to disseminate mission-critical information. The availability of infoBoards provides an information sharing forum supporting coordination and collaboration with TSA and TSA's stakeholders—including industry, Federal agencies, and State and Local governments—and are located in a secure online environment, the Homeland Security Information Network. Accessing and using TSA infoBoards is completely voluntary; TSA does not require participation.

¹ See Public Law 107-71 (115 Stat. 597, Nov. 19, 2001), codified at 49 U.S.C. 114 (d). The TSA Assistant Secretary's current authorities under the Aviation and Transportation Security Act have been delegated to him by the Secretary of Homeland Security. Section 403(2) of the Homeland Security Act of 2002, Pub. L. 107-296 (116 Stat. 2315, Nov. 25, 2002), transferred all functions of TSA, including those of the Secretary of Transportation and the Under Secretary of Transportation of Security related to TSA, to the Secretary of Homeland Security. Pursuant to DHS Delegation Number 7060.2, the Secretary delegated to the Assistant Secretary (then referred to as the Administrator of TSA), subject to the Secretary's guidance and control, the authority vested in the Secretary with respect to TSA, including that in section 403(2) of the Homeland Security Act.

TSA uses TSA Form 1427, TSA infoBoards User Account Request/Renewal, to collect two types of information through TSA infoBoards: (1) user registration information and (2) user's choice of “communities.” TSA also uses TSA Form 1430, Computer Access Agreement (CAA) External Personnel Only, to allow users to certify understanding and acceptance of applicable policy and legal requirements concerning access to network resources within DHS/TSA.

Estimated Annual Number of Respondents: 5,000.

Estimated Annual Burden Hours: 10,000.

Dated: December 2, 2024.
Christina A. Walsh,
TSA Paperwork Reduction Act Officer, Information Technology.

[FR Doc. 2024-28479 Filed 12-4-24; 8:45 am]

BILLING CODE 9110-05-P